DEPARTMENT OF HOUSING AND URBAN DEVELOPMENT

[Docket No. FR-5159-C-01]

Notice of Funding Availability for the Fiscal Year 2007 Public Housing Neighborhood Networks Program; Technical Correction

AGENCY: Office of the Public and Indian Housing, HUD.

ACTION: Technical Corrections to Fiscal Year 2007 NOFA for the Public Housing Neighborhood Networks Program.

SUMMARY: On December 11, 2007, HUD published its Fiscal Year (FY) 2007 Notice of Funding Availability (NOFA) for the Public Housing Neighborhood Networks Program. In today's Federal Register notice, HUD announces that it has removed the Adobe application from Grants.gov for this NOFA, extended the deadline date for submission of applications, and clarifies why the Adobe package has been removed.

DATES: The application deadline date for the Public Housing Neighborhood Networks Program NOFA has been extended to March 14, 2008.

FOR FURTHER INFORMATION CONTACT: Questions regarding this Technical Correction should be directed to the Office of Departmental Grants Management and Oversight, Office of Administration, Department of Housing and Urban Development, 451 Seventh Street, SW., Room 3156, Washington, DC 20410-5000; telephone number (202) 708-0667. Persons with hearing or speech impairments may access this number via TTY by calling the Federal Information Relay Service at (800) 877-8339.

SUPPLEMENTARY INFORMATION:

I. Submission or Resubmission of Applications with PureEdge

On December 11, 2007 (72 FR 70458), HUD published its FY2007 NOFA for the Public Housing Neighborhood Networks Program and posted it to Grants.gov, making applications available in both PureEdge and Adobe 8.1.1 formats. HUD has recently determined that applications submitted using the Adobe Application Package posted to Grants.gov will cause problems during submission if any individuals working on the application have not used Adobe 8.1.1 to complete the application. Specifically, if any individual working on the application does not use Adobe 8.1.1, the application becomes corrupt and not accepted by Grants.gov. To ensure there are no issues with applicants being able to successfully submit their application, HUD is withdrawing the Adobe application package (COMP ID NN-01) from the Grants.gov Web site but leaving the PureEdge package in place. Applicants who have signed up for the Grants.gov notification service will be automatically notified when the Adobe package has been removed. Applicants that have not signed up for the notification service should check the Grants.gov Web site at https://apply07.grants.gov/apply/forms_apps_idx.html for the modification to the announcement posting following publication of this Notice. Applicants must use the PureEdge package; Adobe packages will be rejected. Applicants can download the PureEdge version from the Grants.gov Web site at: https://apply07.grants.gov/apply/forms_apps_idx.html. Applicants who were working with the PureEdge application (Comp ID: NN-PUREEDGE-FORMAT) do not have to download again. Only those working with the Adobe application (Comp ID: NN-0) must download the PureEdge version.

II. Extension of Deadline Date and Important Resubmission Instructions

HUD is extending the Neighborhood Networks deadline date to March 14, 2008, to provide applicants the opportunity and time to download the PureEdge application, complete the application including all attachments and faxes, and submit the application to Grants.gov in time to meet the new deadline date. Applicants that previously submitted a PureEdge application do not have to resubmit a new application, unless they want to add information revising the original submission. Applicants that attempted to submit using Adobe 8.1.1 must download the PureEdge application format and resubmit the application plus all attachments and faxes.

Applicants filing a revised application electronically must also submit a new set of any documents faxed to HUD but should do so only after they submit an entire, complete application to Grants.gov and after the applicant receives validation of the application from Grants.gov. Applicants should allow 48 hours for validation of their revised application to occur and then resend the faxed material. This process will ensure that the resubmitted faxes are associated with the resubmitted application. Failure to follow these instructions will result in faxes not being associated to the most recent application and therefore not available to HUD reviewers. HUD will not search previously submitted applications for faxed materials.

Dated: February 5, 2008.
Paula Blunt,
General Deputy Assistant Secretary for Public and Indian Housing.

[FR Doc. E8-2466 Filed 2-8-08; 8:45 am]

BILLING CODE 4210-67-P